NUCLEAR REGULATORY COMMISSION

[Docket No. 72-1051; NRC-2018-0052]

Holtec International HI-STORE Consolidated Interim Storage Facility Project

AGENCY: Nuclear Regulatory Commission.

ACTION: Draft environmental impact statement; extension of comment period; public meeting.

SUMMARY: On March 20, 2020, the U.S. Nuclear Regulatory Commission (NRC) issued for public comment a draft Environmental Impact Statement (EIS) for Holtec International's (Holtec's) application to construct and operate a consolidated interim storage facility (CISF) for spent nuclear fuel (SNF) and Greater-Than Class C (GTCC) waste, along with a small quantity of mixed oxide fuel. The public comment period was originally scheduled to close on May 22, 2020. On April 27, 2020 the public comment period was extended to July 22, 2020. However, given recent events associated with the COVID-19 public health emergency, the NRC has decided to extend the public comment period to allow more time for members of the public to develop and submit their comments.

DATES: The due date of comments requested in the document published on March 20, 2020 (85 FR 16150), which was extended on April 27, 2020 (85 FR 23382), is further extended. Comments should be filed no later than September 22, 2020. Comments received after this date will be considered, if it is practical to do so, but the Commission is able to ensure consideration only for comments received on or before this date.

ADDRESSES: You may submit comments by any of the following methods:

• Federal Rulemaking website: Go to https://www.regulations.gov/ and search for Docket ID NRC-2018-0052. Address questions about NRC Docket IDs to Jennifer Borges; telephone: 301-287-9127; email: Jennifer.Borges@nrc.gov. For technical questions, contact the individual listed in the FOR FURTHER INFORMATION CONTACT section of this document.

• Mail comments to: Office of Administration, Mail Stop: TWFN-7-A60M, ATTN: Program Management, Announcements and Editing Staff, U.S. Nuclear Regulatory Commission, Washington, DC 20555-0001.

• Email comments to: Holtec-CISFEIS@nrc.gov.

For additional direction on obtaining information and submitting comments, see “Obtaining Information and Submitting Comments” in the SUPPLEMENTARY INFORMATION section of this document.

FOR FURTHER INFORMATION CONTACT: Jill Caverly, Office of Nuclear Material Safety and Safeguards, U.S. Nuclear Regulatory Commission, Washington, DC 20555-0001; telephone: 301-415-7674; email: Jill.Caverly@nrc.gov.

SUPPLEMENTARY INFORMATION:

I. Obtaining Information and Submitting Comments

A. Obtaining Information

Please refer to Docket ID NRC-2018-0052 when contacting the NRC about the availability of information regarding this document. You may obtain publicly-available information related to this action by the following methods:

• Federal Rulemaking website: Go to https://www.regulations.gov and search for Docket ID NRC-2018-0052.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The draft EIS for the Holtec International HI-STORE CISF project is available in ADAMS under Accession No. ML20069G420.

• Project Web Page: Information related to the Holtec HI-STORE CISF project can be accessed on the NRC's Holtec HI-STORE CISF web page at https://www.nrc.gov/waste/spent-fuel-storage/cis/holtec-international.html.

• Public Libraries: A copy of the draft EIS can be accessed at the following public libraries (library access and hours are determined by local policy):

• Carlsbad Public Library, 101 S. Halagueno Street, Carlsbad, NM 88220

• Hobbs Public Library, 509 N Shipp St., Hobbs, NM 88240

• Roswell Public Library, 301 N. Pennsylvania, Roswell, NM 88201

B. Submitting Comments

Please include Docket ID NRC-2018-0052 in your comment submission. Written comments may be submitted during the draft EIS comment period as described in the ADDRESSES section of the document.

The NRC cautions you not to include identifying or contact information that you do not want to be publicly disclosed in your comment submission. The NRC posts all comment submissions at https://www.regulations.gov and enters all comment submissions into ADAMS. The NRC does not routinely edit comment submissions to remove identifying or contact information.

If you are requesting or aggregating comments from other persons for submission to the NRC, then you should inform those persons not to include identifying or contact information that they do not want to be publicly disclosed in their comment submission because the NRC does not routinely edit comment submissions before making the comment submissions available to the public or entering the comment submissions into ADAMS.

II. Discussion

On March 20, 2020 (85 FR 16150), the NRC issued for public comment a draft EIS for Holtec's application to construct and operate a CISF for SNF and GTCC waste. The draft EIS for Holtec's license application includes the preliminary analysis that evaluates the environmental impacts of the proposed action and alternatives to the proposed action. After comparing the impacts of the proposed action (Phase 1) to the No-Action alternative, the NRC staff, in accordance with the requirements in part 51 of title 10 of the Codes of Federal Regulations, recommends the proposed action (Phase 1), which is the issuance of an NRC license for 40 years to Holtec to construct and operate a CISF for SNF at the proposed location. In addition, the Bureau of Land Management (BLM) staff recommends the issuance of a permit to construct and operate the rail spur. This recommendation is based on (i) the license application, which includes an environmental report and supplemental documents, and Holtec's responses to the NRC staff's requests for additional information; (ii) consultation with Federal, State, Tribal, local agencies, and input from other stakeholders; (iii) independent NRC and BLM staff review; and (iv) the assessments provided in the EIS.

The public comment period was originally scheduled to close on May 22, 2020. The NRC has decided to extend the public comment until September 22, 2020 to allow more time for members of the public to submit their comments. Comments of Federal, State, and local agencies, Indian Tribes or other interested persons will be made available for public inspection when received.

III. Meeting Information

The NRC staff will hold a public webinar on July 9, 2020 to receive comments on the draft EIS for Holtec's application to construct and operate a CISF. The webinar will be held online and will offer a telephone line for members of the public to submit comments. A court reporter will be recording all comments received during the webinar. The dates and times for the public webinar are as follow:

Date | Time | Location
7/09/2020 | 5:00 p.m. to 9:00 p.m. (EDT) or 3:00 p.m. to 7:00 p.m. (MDT) | WEBINAR INFORMATION:
|  | Webinar address: https://usnrc.webex.com/.
|  | Event Number: 199 943 8370.
|  | Password: HOLTEC.
|  | TELEPHONE ACCESS:
|  | Telephone number: 800-475-0220.
|  | Telephone passcode: 9575497.

Persons interested in attending this meeting should monitor the NRC's Public Meeting Schedule website at https://www.nrc.gov/pmns/mtg for additional information, agenda for the meeting, information on how to provide verbal comments, and access information for the meeting. Participants should register in advance of the meeting by visiting the website (https://usnrc.webex.com) and using the event number provided above. A confirmation email will be generated providing additional details and a link to the meeting. Those wishing to make verbal comments at the meeting should follow instructions listed on the NRC's Public Meeting Schedule website.

Dated: June 18, 2020.
For the Nuclear Regulatory Commission.
Diana B. Diaz Toro,
Acting Chief, Environmental Review Materials Branch, Division of Rulemaking, Environmental, and Financial Support, Office of Nuclear Material Safety, and Safeguards.

[FR Doc. 2020-13590 Filed 6-23-20; 8:45 am]

BILLING CODE 7590-01-P